DEPARTMENT OF THE INTERIOR

Minerals Management Service

Outer Continental Shelf (OCS) Policy Committee; Notice and Agenda for Meeting

AGENCY: Minerals Management Service, Interior.

ACTION: Notice of meeting.

SUMMARY: The OCS Policy Committee meeting scheduled for November 15-16, 2005, at the Days Hotel and Conference Center at Dulles in Herndon, Virginia.

DATES: Tuesday, November 15, 2005, 8:30 a.m. to 5 p.m. and Wednesday, November 16, 2005, from 8:30 a.m. to 12:15 p.m.

ADDRESSES: The Days Hotel and Conference Center at Dulles, 2200 Centreville Road, Herndon, Virginia 20170, telephone (703) 471-6700.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, local government, environmental community, industry and other parties involved with the OCS Program. It provides policy advice to the Secretary of the Interior through the Director of the MMS on all aspects of leasing, exploration, development, and protection of OCS resources.

The Agenda for Tuesday, November 15 Will Cover the Following Principal Subjects

Energy Policy Act of 2005. This presentation will address MMS responsibilities in implementing the provisions affecting the Outer Continental Shelf.

Coastal Impact Assistance Program. As authorized in the Energy Policy Act of 2005, MMS will implement a new program to distribute $1 billion to coastal States and localities for approved projects related to the conservation, restoration, or protection of coastal areas, wildlife, and natural resources.

OCS Renewable Energy and Alternative Use Program Approach. The Energy Policy Act of 2005 amended the OCS Lands Act to grant management authority to the Secretary of the Interior, and MMS will develop a new regulatory regime to manage access, balancing competing uses while ensuring appropriate environmental safeguards. This presentation will also address the draft report of the OCS Policy Committee's Alternative Energy/Use Subcommittee.

USGS/MMS Joint Session on the Marine Mapping Initiative. The presentation will address the history, intent, and status of ongoing efforts and the objectives of MMS and USGS initiatives within the Energy Bill as well as broader Federal coordination efforts.

Impact of Hurricanes on Energy Infrastructure and Outlook for Oil and Natural Gas Supplies. This presentation will address the status of oil and gas availability, the outlook for the future as affected by Hurricanes Rita and Katrina, and lessons learned.

Impact of 2004-2005 Gulf Coast Hurricanes on Coastal Environment. This presentation will address the impacts of Hurricanes Ivan, Dennis, Katrina, and Rita on coastal barrier islands, beaches, estuaries, wetlands, and other environments along the northern Gulf of Mexico coastal area from the Florida panhandle to Texas.

MMS Regional Issues. The Regional Directors will highlight activities of the Pacific, Alaska, and Gulf of Mexico regions.

The Agenda for Wednesday, November 16 Will Cover the Following Principal Subjects

OCS Scientific Committee Update. This presentation will address the current activities of the OCS Scientific Committee and its subcommittees.

Congressional Update. This presentation will address legislative activity pertinent to the OCS program.

5-Year OCS Oil and Gas Leasing Program 2007-2012. This presentation will address the steps for development of the next 5-Year Program (2007-2012), input received during the comment period, and the supporting Environmental Impact Statement.

Committee Business. Status reports from the OCS Policy Committee's 5-Year OCS Oil and Gas Leasing Program and Hard Minerals Subcommittees.

The meeting is open to the public. Approximately 100 visitors can be accommodated on a first-come-first-served basis.

Upon request, interested parties may make oral or written presentations to the OCS Policy Committee. Such requests should be made no later than November 10, 2005, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Pub. L. No. 92-463, 5 U.S.C. Appendix 1, and the Office of Management and Budget's Circular No. A-63, Revised.

Dated: October 26, 2005.
Thomas A. Readinger,
Associate Director for Offshore Minerals Management.

[FR Doc. 05-21765 Filed 10-31-05; 8:45 am]

BILLING CODE 4310-MR-P